DEPARTMENT OF COMMERCE

National Oceanic and Atmospheric Administration

RIN 0648-XB157

Marine Mammals; File No. 14856

AGENCY: National Marine Fisheries Service (NMFS), National Oceanic and Atmospheric Administration (NOAA), Commerce.

ACTION: Notice; receipt of application.

SUMMARY: Notice is hereby given that Bruce R. Mate, Ph.D., Hatfield Marine Science Center, Oregon State University, Newport, OR 97365, has applied in due form for a permit to take marine mammals world-wide for the purposes of scientific research.

DATES: Written, telefaxed, or email comments must be received on or before July 2, 2012.

ADDRESSES: The application and related documents are available for review by selecting “Records Open for Public Comment” from the Features box on the Applications and Permits for Protected Species (APPS) home page, https://apps.nmfs.noaa.gov, and then selecting File No. 14856 from the list of available applications.

These documents are also available upon written request or by appointment in the following offices: See SUPPLEMENTARY INFORMATION.

Written comments on this application should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Laura Morse or Carrie Hubard, (301)427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

Dr. Mate proposes to conduct scientific research on 83 identified species of marine mammals species world-wide. The purposes of the proposed research are to: (1) Identify migration routes; (2) identify specific feeding and breeding grounds for each species; (3) characterize local movements and dive habits in both feeding and breeding grounds, and during migration; (4) examine the relationships between movements/dive habits and prey distribution, time of day, geographic location, or physical and biological oceanographic conditions; (5) characterize whale vocalizations; and (6) characterize sound pressure levels to which whales are exposed. Fourteen species of large whales would be approached for biopsy, implantable and suction cup tagging, photo-identification, behavioral observation, passive acoustic recording, and assessment of possible tag effects in U.S. and international waters worldwide over a 5-year period, including 200 each of humpback whale (Megaptera novaeangliae), blue whale (Balaenoptera musculus), fin whale (B. physalus), sei whale (B. borealis), Bryde's whale (B. edeni), minke whale (B. acutorostrata), Antarctic minke whale (B. bonaerensis), Eastern North Pacific gray whale (Eschrichtius robustus), Southern right whale (Eubalaena australis), bowhead whale (Balaena mysticetus), and sperm whale (Physeter macrocephalus); 100 killer whales (Orcinus orca), excluding the Southern Resident stock; 60 North Pacific right whales (E. japonica); and 25 Western North Pacific gray whales. The remaining species including beluga whale (Delphinapterus leucas) Cook Inlet stock, killer whale southern resident stock, false killer whale (Pseudorca crassidens) Hawaiian insular stock, Steller sea lions, Eastern and Western Distinct Populations Segments (Eumetopias jubatus), Guadalupe fur seal (Arctocephalus townsendi), Hawaiian monk seal (Monachus schauinslandi), bearded seal (Erignathus barbatus), and ringed seal (Pusa hispida), may be incidentally harassed during tagging and biopsy activities or would be approached for photo-identification, behavioral observation, and passive acoustic recording. Import, export and receipt of biopsy samples are also requested.

A draft environmental assessment (EA) has been prepared in compliance with the National Environmental Policy Act of 1969 (42 U.S.C. 4321 et seq.), to examine whether significant environmental impacts could result from issuance of the proposed scientific research permit. The draft EA is available for review and comment simultaneous with the scientific research permit application.

Concurrent with the publication of this notice in the Federal Register, NMFS is forwarding copies of the application to the Marine Mammal Commission and its Committee of Scientific Advisors.

Documents may be reviewed in the following locations:

Permits and Conservation Division, Office of Protected Resources, NMFS, 1315 East-West Highway, Room 13705, Silver Spring, MD 20910; phone (301)427-8401; fax (301)713-0376;

Northwest Region, NMFS, 7600 Sand Point Way NE., BIN C15700, Bldg. 1, Seattle, WA 98115-0700; phone (206)526-6150; fax (206)526-6426;

Alaska Region, NMFS, P.O. Box 21668, Juneau, AK 99802-1668; phone (907)586-7221; fax (907)586-7249;

Southwest Region, NMFS, 501 West Ocean Blvd., Suite 4200, Long Beach, CA 90802-4213; phone (562)980-4001; fax (562)980-4018;

Pacific Islands Region, NMFS, 1601 Kapiolani Blvd., Rm 1110, Honolulu, HI 96814-4700; phone (808)944-2200; fax (808)973-2941;

Northeast Region, NMFS, 55 Great Republic Drive, Gloucester, MA 01930; phone (978)281-9328; fax (978) 281-9394; and

Southeast Region, NMFS, 263 13th Avenue South, Saint Petersburg, FL 33701; phone (727)824-5312; fax (727)824-5309.

Dated: May 23, 2012.
Tammy C. Adams,
Acting Chief, Permits and Conservation Division, Office of Protected Resources, National Marine Fisheries Service.

[FR Doc. 2012-13330 Filed 5-31-12; 8:45 am]

BILLING CODE 3510-22-P